DEPARTMENT OF ENERGY

10 CFR Part 430

[EERE-2019-BT-STD-0043]

RIN 1904-AE61

Energy Conservation Program: Energy Conservation Standards for Dehumidifiers

AGENCY: Office of Energy Efficiency and Renewable Energy, Department of Energy.

ACTION: Extension of public comment period.

SUMMARY: On June 4, 2021, the U.S. Department of Energy (“DOE”) published a request for information (“RFI”) pertaining to the energy conservation standards for dehumidifiers. The notice provided an opportunity for submitting written comments, data, and information by July 6, 2021. On June 18, 2021, DOE received a request from the Association of Home Appliance Manufacturers (“AHAM”) to extend the public comment period by 30 days. DOE has reviewed this request and is granting a 15-day extension of the public comment period to allow public comments to be submitted until July 21, 2021.

DATES: The comment period for the RFI published on June 4, 2021 (86 FR 29964), is extended. DOE will accept comments, data, and information regarding this RFI on or before July 21, 2021.

ADDRESSES: Interested persons are encouraged to submit comments using the Federal eRulemaking Portal at www.regulations.gov. Follow the instructions for submitting comments. Alternatively, interested persons may submit comments, identified by docket number EERE-2019-BT-STD-0043 by any of the following methods:

1. Federal eRulemaking Portal: www.regulations.gov. Follow the instructions for submitting comments.

2. Email: To Dehumidifiers2019STD0043@ee.doe.gov. Include docket number EERE-2019-BT-STD-0043 in the subject line of the message.

No telefacsimilies (“faxes”) will be accepted.

Although DOE has routinely accepted public comment submissions through a variety of mechanisms, including postal mail and hand delivery/courier, the Department has found it necessary to make temporary modifications to the comment submission process in light of the ongoing COVID-19 pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, not all documents listed in the index may be publicly available, such as information that is exempt from public disclosure.

The docket web page can be found at: www.regulations.gov/docket/EERE-2019-BT-STD-0043. The docket web page contains instructions on how to access all documents, including public comments, in the docket.

FOR FURTHER INFORMATION CONTACT: Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov.

Mr. Pete Cochran, U.S. Department of Energy, Office of the General Counsel, GC-33, 1000 Independence Avenue SW, Washington, DC 20585-0121. Telephone: (202) 586-9496. Email: Peter.Cochran@hq.doe.gov.

For further information on how to submit a comment or review other public comments and the docket contact the Appliance and Equipment Standards Program staff at (202) 287-1445 or by email: ApplianceStandardsQuestions@ee.doe.gov.

SUPPLEMENTARY INFORMATION: On June 4, 2021, DOE published an RFI seeking data and information that could enable the agency to determine whether DOE should propose a “no-new-standard” determination because a more stringent standard: Would not result in a significant savings of energy; is not technologically feasible; is not economically justified; or any combination of the foregoing. 86 FR 29964. On June 18, 2021, an interested party in the matter, AHAM, requested a 30-day extension of the public comment period for the RFI.¹ AHAM asked for this additional time given that comments on DOE's preliminary technical support document for clothes dryers are also due on July 6, 2021. In addition, AHAM commented that the industry is spending a considerable amount of time responding to proposals from Natural Resources Canada related to five categories of home appliances, as well as DOE's proposed test procedure for direct heating equipment. AHAM stated that it understands and appreciates that DOE is working to move quickly on a number of rulemakings to satisfy the President's climate objectives as well as advance rulemakings that have missed statutory deadlines. AHAM noted that the statutory deadline for dehumidifiers is a year away and, thus, asserted that a brief delay in the comment period should not negatively impact DOE's ability to meet this deadline, nor should it detract from DOE's ability to catch up on other rulemakings, but it would significantly assist AHAM and its members in providing quality input on DOE's RFI.

¹ AHAM submitted the request to DOE via email.

DOE has reviewed the request and is extending the comment period to allow additional time for interested parties to submit comments. As noted, the RFI was issued as part of the preliminary stage of a rulemaking to consider amendments to the energy conservation standards for dehumidifiers. If DOE determines that amended energy conservation standards may be appropriate, additional notices will be published (e.g., a notice of proposed rulemaking), providing interested parties additional opportunity to submit comments. As such, DOE has determined that a 15-day extension is sufficient for this preliminary stage. Therefore, DOE is extending the comment period to July 21, 2021.

Signing Authority

This document of the Department of Energy was signed on June 25, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on June 25, 2021.
Treena V. Garrett,
Federal Register Liaison Officer, U.S. Department of Energy.

[FR Doc. 2021-13986 Filed 6-29-21; 8:45 am]

BILLING CODE 6450-01-P